FEDERAL COMMUNICATIONS COMMISSION

Public Information Collection Requirement Submitted to OMB for Review and Approval, Comments Requested

March 18, 2009.

SUMMARY: The Federal Communications Commission, as part of its continuing effort to reduce paperwork burdens, invites the general public and other Federal agencies to take this opportunity to comment on the following information collections, as required by the Paperwork Reduction Act of 1995 (PRA), Public Law 104-13. An agency may not conduct or sponsor a collection of information unless it displays a currently valid control number. No person shall be subject to any penalty for failing to comply with a collection of information subject to the PRA that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 23, 2009. If you anticipate that you will be submitting comments, but find it difficult to do so within the period of time allowed by this notice, you should advise the contacts listed below as soon as possible.

ADDRESSES: Direct all PRA comments to Nicholas A. Fraser, Office of Management and Budget, via the Internet at Nicholas_A._Fraser@omb.eop.gov or via fax at (202) 395-5167; and to Cathy Williams, Federal Communications Commission, Room 1-C823, 445 12th Street, SW., Washington, DC, 20554, or via the Internet at Cathy.Williams@fcc.gov and/or PRA@fcc.gov. Include in the comments the OMB control number of the collection as shown in the SUPPLEMENTARY INFORMATION section below.

FOR FURTHER INFORMATION CONTACT: For additional information or copies of the information collection(s), contact Cathy Williams at (202) 418-2918, or via the Internet at Cathy.Williams@fcc.gov, and/or PRA@fcc.gov. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0761.

Title: Section 79.1, Closed Captioning of Video Programming, CG Docket No. 05-231.

Form Number: N/A.

Type of Review: Revision of a currently approved collection.

Respondents: Business or other for-profit entities; Individuals or households; and Not-for-profit entities.

Number of Respondents and Responses: 14,283 respondents; 109,999 responses.

Estimated Time per Response: 15 minutes (0.25 hours) to 10 hours.

Frequency of Response: Annual and on occasion reporting requirements; Third party disclosure requirement; Recordkeeping requirement.

Total Annual Burden: 226,335 hours.

Total Annual Cost: $37,340,142.

Obligation to Respond: Required to obtain or retain benefits. The statutory authority for this obligation is found at section 713 of the Communications Act of 1934, as amended, 47 U.S.C. 613, and implemented at 47 CFR 79.1.

Nature and Extent of Confidentiality: Confidentiality is an issue to the extent that individuals and households provide personally identifiable information, which is covered under the FCC's system of records notice, FCC/CGB-1, “Informal Complaints and Inquiries.”

Privacy Impact Assessment: The Privacy Impact Assessment for Informal Complaints and Inquiries was completed on June 28, 2007. It may be reviewed at http://www.fcc.gov/omd/privacyact/Privacy_Impact_Assessment.html.

Needs and Uses: On July 21, 2005, the Commission released Closed Captioning of Video Programming; Telecommunications for the Deaf, Inc. Petition for Rulemaking, CG Docket No. 05-231, Notice of Proposed Rulemaking, FCC 05-142, published at 70 FR 56150 on September 26, 2005 (Closed Captioning Notice of Proposed Rulemaking), which sought comment on several issues pertaining to the Commission's closed captioning rules (47 CFR 79.1), which require that, with some exceptions, all new video programming, and 75 percent of “pre-rule” programming, eventually be closed captioned. The Closed Captioning Notice of Proposed Rulemaking sought comment, inter alia, on whether petitions for exemption from the closed captioning rules should be permitted (or required) to be filed electronically through the Commission's Electronic Comment Filing System, and whether video programming distributors should be required to submit compliance reports to the Commission in cases where the types of video programming that they air are still subject to a phase-in period, or where the final required amount of captioning post phase-in (e.g., pre-rule programming) is not 100 percent.

On November 7, 2008, the Commission released Closed Captioning of Video Programming; Closed Captioning Requirements for Digital Television Receivers, CG Docket No. 05-231 and ET Docket No. 99-24, Declaratory Ruling, Order and Notice of Proposed Rulemaking, FCC 08-255 (2008 Order), published at 74 FR 1594 on January 13, 2009, addressing some of the issues raised in the Closed Captioning Notice of Proposed Rulemaking. The 2008 Order streamlined and simplified the closed captioning complaint process by shortening the time frames associated with filing and responding to complaints, and by permitting complaints to be filed directly with the Commission, rather than requiring that they be filed with the video programming distributor first. The 2008 Order also adopted new rules requiring video programming distributors to make contact information available in phone directories, on the Commission's Web site and their own Web sites (if they have them), and in billing statements (to the extent they issue them). With this contact information, consumers can more easily and promptly contact the appropriate person or office at a video programming distributor to report closed captioning problems or to file complaints.

Federal Communications Commission.
Marlene H. Dortch,
Secretary.

[FR Doc. E9-6435 Filed 3-23-09; 8:45 am]

BILLING CODE 6712-01-P